DEPARTMENT OF THE INTERIOR

Bureau of Land Management

[LLORB07000.L17110000.AL0000.LXSSH1060000.21X.HAG 21-0027]

Notice of Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) will meet as indicated below.

DATES: The SMAC will hold a public videoconference on Thursday, June 3, 2021, from 10 a.m. to 3:30 p.m.

ADDRESSES: Videoconference access information will be available on https://on.doi.gov/3jWrWSn 2 weeks prior to the meeting.

FOR FURTHER INFORMATION CONTACT: Tara Thissell, Public Affairs Specialist, 28910 Highway 20 West, Hines, Oregon 97738; telephone: 541-573-4519; email: tthissell@blm.gov. Persons who use a telecommunications device for the deaf (TDD) may call the Federal Relay Service (FRS) at 1-800-877-8339 to contact Ms. Thissell during normal business hours. The FRS is available 24 hours a day, 7 days a week, to leave a message or question. You will receive a reply during normal business hours.

SUPPLEMENTARY INFORMATION: The SMAC was established August 14, 2001, pursuant to the Steens Mountain Cooperative Management and Protection Act of 2000 (Steens Act, Pub. L. 106-399). The SMAC provides recommendations to the BLM regarding new and unique approaches to management of the land within the bounds of the Steens Mountain Cooperative Management and Protection Area, recommends cooperative programs and incentives for landscape management that meet human needs, and advises the BLM on potential maintenance and improvement of the ecological and economic integrity of the area.

The June 3 agenda includes an update from the Designated Federal Officer; a report on recreation, visitor use, and law enforcement statistics and data from the 2020 season; a presentation and discussion on the Nature's Advocate Inholder Access Environmental Assessment (EA) and proposed routes; information sharing about the Bridge Creek Area Allotment Management Plan and EA; an update from SMAC members regarding their Inholder Initiative; and an opportunity for SMAC members to share information from their constituents and present research. Any other matters that may reasonably come before the SMAC may also be included.

A public comment period will be held in the afternoon. Depending on the number of people wishing to comment and the time available, the amount of time for oral comments may be limited. Written comments can be mailed (see FOR FURTHER INFORMATION CONTACT) or emailed to tthissel@blm.gov with the subject line: SMAC Meeting. All comments received will be proved to the SMAC members. Sessions may end early if all business items are accomplished ahead of schedule or may be extended if discussions warrant more time. All meetings, including this Zoom videoconference, are open to the public in their entirety.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 43 CFR 1784.4-2)

Jeffrey Rose,
District Manager.

[FR Doc. 2021-08871 Filed 4-27-21; 8:45 am]

BILLING CODE 4310-33-P